DEPARTMENT OF COMMERCE

United States Patent and Trademark Office

37 CFR Part 41

[Docket No.: PTO-P-2009-0021]

RIN 0651-AC37

Rules of Practice Before the Board of Patent Appeals and Interferences in Ex Parte Appeals; Extension of Comment Period on Potential Modifications to Final Rule

AGENCY: United States Patent and Trademark Office, Commerce.

ACTION: Notice of extension of comment period.

SUMMARY: The United States Patent and Trademark Office (USPTO or Office) published an advance notice of proposed rule making, with request for comments, considering potential modifications to rules governing practice before the Board of Patent Appeals and Interferences (BPAI) in ex parte patent appeals. The USPTO is extending the period for public comment on the potential modifications to the final rule until February 26, 2010.

DATES: The deadline for receipt of written comments on potential modifications to the final rule is 5 p.m., Eastern Standard Time, on February 26, 2010.

ADDRESSES: Written comments on potential modifications to the final rule should be sent by electronic mail message over the Internet addressed to BPAI.Rules@uspto.gov. Comments on potential modifications to the final rule may also be submitted by mail addressed to: Mail Stop Interference, Director of the United States Patent and Trademark Office, P.O. Box 1450, Alexandria, VA 22313-1450, marked to the attention of “Linda Horner, BPAI Rules.” Although comments may be submitted by mail, the USPTO prefers to receive comments via the Internet.

The written comments will be available for public inspection at the Board of Patent Appeals and Interferences, located in Madison East, Ninth Floor, 600 Dulany Street, Alexandria, Virginia, and will be available via the USPTO Internet Web site (address: http://www.uspto.gov/web/offices/dcom/bpai/). Because comments will be made available for public inspection, information that is not desired to be made public, such as an address or phone number, should not be included in the comments.

FOR FURTHER INFORMATION CONTACT: Linda Horner, Administrative Patent Judge, Board of Patent Appeals and Interferences, by telephone at (571) 272-9797, or by mail addressed to: Mail Stop Interference, Director of the United States Patent and Trademark Office, P.O. Box 1450, Alexandria, VA 22313-1450, marked to the attention of Linda Horner.

SUPPLEMENTARY INFORMATION: The United States Patent and Trademark Office (USPTO or Office) published an advance notice of proposed rule making on potential modifications to rules governing practice before the Board of Patent Appeals and Interferences (BPAI) in ex parte patent appeals (74 FR 67987 (Dec. 22, 2009)). The notice also announced a public roundtable that was held on January 20, 2010. A link to the Web cast of the roundtable may be found at http://www.uspto.gov/ip/boards/bpai/roundtable_info.jsp. In the notice, the public was invited to submit written comments on potential modifications to the final rule that were to be received on or before February 12, 2010. The USPTO is now extending the period for submission of public comments until February 26, 2010. Any comments that have already been received are under consideration and need not be resubmitted.

Dated: January 26, 2010.
David J. Kappos,
Under Secretary of Commerce for Intellectual Property and Director of the United States Patent and Trademark Office.

[FR Doc. 2010-2029 Filed 1-29-10; 8:45 am]

BILLING CODE 3510-16-P